DEPARTMENT OF LABOR

Employment and Training Administration

[TA-W-39,512]

Royce Hosier Mills, Inc., High Point, NC; Notice of Revised Determination on Remand

The United States Court of International Trade (USCIT) granted the Secretary of Labor's motion for voluntary remand for further investigation of the negative determination in Former Employees of Royce Hosiery Mills, Inc. v. U.S. Secretary of Labor (Court No. 02-00252).

The Department's initial denial of the petition for employees of Royce Hosiery Mills, Inc., High Point, North Carolina was issued on July 6, 2001 and published in the Federal Register on July 26, 2001 (66 FR 39055). The denial was based on the fact that criterion (3) of the Group Eligibility Requirements of section 222 of the Trade Act of 1974, as amended, was not met. Increased imports did not contribute importantly to worker separations at the subject firm. The immediate cause of the worker separations at the subject firm was related to the transfer of production to other domestic facilities.

On August 28, 2001, the petitioner requested administrative reconsideration of the Department's denial, which also resulted in the dismissal of the application for reconsideration. The dismissal was issued on January 24, 2002, and published in the Federal Register on February 5, 2002 (67 FR 5297).

On remand, the Department obtained new information and clarification from the company regarding the work done at the High Point facility. The investigation revealed that the subject workers produced socks (dyed, boarded, paired, inspected, packaged and shipped socks). The company further revealed that the company increased their imports of socks “like or directly competitive” with what the subject plant produced during the relevant period.

Conclusion

After careful review of the additional facts obtained on remand, I conclude that there were increased imports of articles like or directly competitive with those produced by the subject firm that contributed importantly to the worker separations and sales or production declines at the subject facility. In accordance with the provisions of the Trade Act, I make the following certification:

All workers of Royce Hosiery Mills, Inc., High Point, North Carolina who became totally or partially separated from employment on or after June 6, 2000, through two years from the issuance of this revised determination, are eligible to apply for adjustment assistance under section 223 of the Trade Act of 1974.

Signed at Washington, DC, this 4th day of June 2002.
Edward A. Tomchick,
Director, Division of Trade Adjustment Assistance.

[FR Doc. 02-15443 Filed 6-18-02; 8:45 am]

BILLING CODE 4510-30-P